DEPARTMENT OF THE INTERIOR

Bureau of Land Management

[LLNVB00000. L51100000.GN0000. LVEMF1704460. 17X. MO# 4500106342]

Notice of Availability of the Final Environmental Impact Statement for the Proposed Greater Phoenix Project, Lander County, NV

AGENCY: Bureau of Land Management, Interior.

ACTION: Notice.

SUMMARY: In compliance with the National Environmental Policy Act of 1969, as amended (NEPA), and the Federal Land Policy and Management Act of 1976, as amended (FLPMA), the Bureau of Land Management (BLM) Mount Lewis Field Office, Battle Mountain, Nevada, has prepared a Final Environmental Impact Statement (EIS) and by this notice is announcing its availability. The Greater Phoenix Project is owned by Newmont USA Limited and is located approximately 12 miles southwest of the town of Battle Mountain in Lander County, Nevada. The Proposed Project includes expanding the life of the mine from 2040 to 2063; expanding the boundary of the mine by 10,611 acres, from 8,228 acres to 18,839 acres; and increasing surface disturbance by 3,497 acres, from 8,374 to 11,871 acres.

DATES: The BLM will not issue a final decision on the proposal for a minimum of 30 days after the date that the Environmental Protection Agency publishes its Notice of Availability in the Federal Register.

ADDRESSES: Copies of the Final EIS for the Greater Phoenix Mine Project and other documents pertinent to this proposal may be examined at the Mount Lewis Field Office: 50 Bastian Road, Battle Mountain, Nevada 89820. All documents are available for download at https://go.usa.gov/xQDYJ.

FOR FURTHER INFORMATION CONTACT: Christine Gabriel—Project Manager, telephone 775-635-4000; address 50 Bastian Road, Battle Mountain, Nevada 89820; email blm_nv_bmdo_GreaterPhoenixProject@blm.gov. Contact Christine Gabriel to have your name added to our mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Newmont USA Limited (Newmont) proposes to modify the Phoenix Mine Plan of Operations to expand its existing mining operations. The proposed Project is located approximately 12 miles southwest of the town of Battle Mountain in Lander County, Nevada. Within this expanded area, surface disturbance would increase by 3,497 acres from 8,374 to 11,871 acres, which includes 5,896 acres located on public lands administered by the BLM Mount Lewis Field Office. The existing Phoenix Mine is a gold and copper mining and beneficiation operation. Mill-grade oxide gold ore is beneficiated to gold concentrate at the Phoenix Mill facility, which also produces small amounts of copper and silver concentrates as trace elements. Mill tailings are deposited in a tailings storage facility (TSF). Copper-containing ore is beneficiated using heap leaching followed by solvent extraction and electrowinning of copper from the leach solution.

Operations at Phoenix Mine under the currently authorized Plan of Operations and existing permits would last approximately 24 years. Active closure and reclamation activities are anticipated to extend approximately 13 years beyond the operational phase. Additionally, more than 500 years of post-closure monitoring would follow final reclamation.

The proposed Project amendments include the following: Extension of mine life from 2040 to 2063; expansion of the Plan of Operations boundary by 10,611 acres—from 8,228 acres to 18,839 acres, of which 10,132 are BLM-managed public lands; increase surface disturbance by 3,497 acres—from 8,374 acres to 11,871 acres; expansion of the Phoenix Pit area through consolidation of existing pit areas, and increase in pit depth by 380 feet—from 4,990 to 4,610 feet above mean sea level; expansion of the Natomas Waste Rock Facility by 347 acres—from 997 acres to 1,344 acres; expansion of the Phoenix TSF by 1,801 acres—from 1,396 acres to 3,197 acres; expansion of the Phoenix Heap Leach Facility by 79 acres—from 536 acres to 615 acres; expansion of the clay soil borrow area by 819 acres—from 469 acres to 1,288 acres; development of an additional soil borrow area (483 acres); modification of the mine closure approach (including the management of pit water through treatment to meet applicable water quality standards and subsequently put to beneficial use in perpetuity); and realignment of Buffalo Valley Road, as well as realignment of a service power line, fiber optic line, and natural gas pipeline.

Under the proposed Project, four existing FLPMA right-of-way grants (associated with project-related linear facilities) would be amended.

The EIS's analysis is focused on impacts to the following resource areas that were identified through the NEPA scoping process: Water resources (including surface water, groundwater, and geochemistry); air quality; vegetation resources (including noxious weeds and special status species); wildlife (including migratory birds and special status species); grazing management; land use and access; aesthetics (visual); cultural resources; Native American cultural concerns; geological resources (including minerals and soils); paleontological resources; recreation; social and economic values; hazardous materials; wetland and riparian zones.

The EIS describes and analyzes the proposed Project's direct, indirect, and cumulative impacts on all affected resources. In addition to the proposed Project, three alternatives were analyzed: the Enhanced/Mechanical Evaporation Cell Alternative, Treat Water for Agricultural Cropping on Private Land Alternative, and the No Action Alternative.

The Draft EIS, was available for a 45-day public comment period, which ended October 16, 2017. A public meeting was held on September 26, 2017 in Battle Mountain, NV. A total of 178 comments were received during the public comment process. Comment responses are in the Final EIS.

The BLM has utilized and coordinated the NEPA scoping and comment process to help fulfill the public involvement requirements under the National Historic Preservation Act (NHPA) (54 U.S.C. 306108) as provided in 36 CFR 800.2(d)(3)—and continues to do so. The information about historic and cultural resources within the area potentially affected by the proposed Project has assisted the BLM in identifying and evaluating impacts to such resources in the context of both NEPA and the NHPA.

The BLM has consulted and continues to consult with Indian tribes on a government-to-government basis in accordance with Executive Order 13175 and other policies. Tribal concerns, including impacts to Indian trust assets and potential impacts to cultural resources have been analyzed and addressed in the EIS.

John Gant Massey,
Acting Field Manager, Mount Lewis Field Office.

[FR Doc. 2018-16680 Filed 8-2-18; 8:45 am]

BILLING CODE 4310-HC-P